DEPARTMENT OF AGRICULTURE

National Institute of Food and Agriculture

7 CFR Part 3400

Special Research Grants Program

CFR Correction

In Title 7 of the Code of Federal Regulations, Part 2000 to End, revised as of January 1, 2015, on page 209, in § 3400.4, in paragraph (c)(14), remove the term “engaged by Director” and add the term “engaged by the Director” in its place.

[FR Doc. 2015-33039 Filed 12-30-15; 8:45 am]

BILLING CODE 1505-01-D